DEPARTMENT OF TRANSPORTATION

Federal Aviation Administration

14 CFR Parts 117 and 121

[Docket No. FAA-2012-0358]

Notice of Procedures for Submitting Clarifying Questions Concerning the Flight, Duty, and Rest Requirements of Part 117

AGENCY: Federal Aviation Administration (FAA), DOT.

ACTION: Notice of procedures for submitting clarifying questions.

SUMMARY: The FAA published a final rule on January 4, 2012 that amends the existing flight, duty and rest regulations applicable to certificate holders and their flightcrew members. Since then, the FAA has received questions from stakeholders concerning the provisions of the final rule. In response to these questions, the FAA is issuing this document, which announces the procedures for submitting clarifying questions to the final rule.

DATES: You must submit your clarifying questions in writing using the procedures outlined below by June 4, 2012.

ADDRESSES: See the “Procedures for Submitting Clarifying Questions” section of this document.

FOR FURTHER INFORMATION CONTACT: See the “Procedures for Submitting Clarifying Questions” section of this document.

SUPPLEMENTARY INFORMATION:

Background

On January 4, 2012, the FAA published a final rule entitled, “Flightcrew Member Duty and Rest Requirements” (77 FR 330). In that rule, the FAA created new part 117, which replaces the existing flight, duty, and rest regulations, contained in Subparts Q, R, and S, for part 121 passenger operations. As part of this rulemaking, the FAA also applied the new part 117 to certain part 91 operations, and permitted all-cargo operations operating under part 121 to voluntarily opt into the part 117 flight, duty, and rest regulations.

Since the rule was published, the FAA has received numerous questions concerning the provisions of the final rule. Even though the final rule's compliance date is January 4, 2014, the FAA concludes that responding to the questions and providing additional regulatory clarity will enable the stakeholders to better plan the changes that they will need to make in order to comply with the final rule. To the extent possible, the FAA also seeks to ensure consistency of interpretation by answering the stakeholders' questions in a single document instead of multiple different interpretations.

Accordingly, the FAA requests that all clarifying questions be submitted to the docket no later than June 4, 2012. The FAA emphasizes that it is not reconsidering the provisions of the final rule or reopening the final rule to notice and comment. Rather, the FAA is simply soliciting questions about how the final rule works so that the FAA can provide greater clarity to the stakeholders by answering those questions.

Procedures for Submitting Clarifying Questions

If you wish to submit a request to the FAA for clarification of the Flightcrew Member Duty and Rest Requirements final rule, you must send your request using the below method by June 4, 2012.

1. Post your request on the Federal eRulemaking Portal. To access this electronic docket, go to http://www.regulations.gov, enter Docket Number FAA-2012-0358, and follow the online instructions for sending your request electronically.

2. In addition to sending your request to the electronic docket, send a copy via email to the subject matter expert as noted below.

Technical Questions: Dale E. Roberts, Air Transportation Division, Flight Standards Service, Federal Aviation Administration; email dale.e.roberts@faa.gov.

Legal Questions: Alex Zektser, Office of the Chief Counsel, Regulations Division, Federal Aviation Administration; email alex.zektser@faa.gov.

The FAA will attempt to reply to the clarifying questions that are submitted by June 4, 2012.

Issued in Washington, DC, on March 26, 2012.
Rebecca B. MacPherson,
Assistant Chief Counsel for Regulations, AGC-200.

[FR Doc. 2012-7739 Filed 4-4-12; 8:45 am]

BILLING CODE 4910-13-P